DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of February 2012.

The National Advisory Committee on Rural Health will convene its seventieth meeting in the time and place specified below:

Name: National Advisory Committee on Rural Health and Human Services.

Dates and Time:

February 15, 2012, 2 p.m.-5 p.m.

February 16, 2012, 8:45 a.m.-4 p.m.

February 17, 2012, 8:45 a.m.-11:15 a.m.

Place: The Fairfax at Embassy Row, 2100 Massachusetts Avenue NW., Washington, DC 20008.

Phone: (202) 293-2100.

The meeting will be open to the public.

Purpose: The National Advisory Committee on Rural Health and Human Services provides counsel and recommendations to the Secretary with respect to the delivery, research, development, and administration of health and human services in rural areas.

Agenda: Wednesday afternoon, February 15, at 2 p.m., the meeting will be called to order by the Chairperson of the Committee: The Honorable Ronnie Musgrove. This will be followed by presentations on provisions from the Affordable Care Act (ACA). The Committee will be examining potential long-term impacts on the rural health care infrastructure. The day will conclude with a period of public comment at approximately 4:30 p.m.

Thursday morning, February 16, at 9 a.m., the Committee will continue to hear panel presentations on ACA-related provisions and will then break into subcommittees on each of those topics for further discussion. The day will conclude with a period of public comment at approximately 4:30 p.m.

Friday morning, February 17, at 9 a.m., the Committee will summarize key findings from the meeting and develop a work plan for the next quarter and the June meeting.

FOR FURTHER INFORMATION CONTACT: Steve Hirsch, MSLS, Executive Secretary, National Advisory Committee on Rural Health and Human Services, Health Resources and Services Administration, Parklawn Building, Room 5A-05, 5600 Fishers Lane, Rockville, MD 20857, Telephone (301) 443-0835, Fax (301) 443-2803.

Persons interested in attending any portion of the meeting should contact Aaron Wingad at the Office of Rural Health Policy (ORHP) via telephone at (301) 443-0835 or by email at awingad@hrsa.gov. The Committee meeting agenda will be posted on ORHP's Web site http://www.hrsa.gov/advisorycommittees/rural/.

Dated: December 30, 2011.
Reva Harris,
Acting Director, Division of Policy and Information Coordination.

[FR Doc. 2012-225 Filed 1-9-12; 8:45 am]

BILLING CODE 4165-15-P